DEPARTMENT OF AGRICULTURE

National Institute of Food and Agriculture

Solicitation of Input From Stakeholder and Public Listening Session Regarding: Capacity Building Grants for Non-Land-Grant Colleges of Agriculture (NLGCA); The Secondary Education, Two-Year Postsecondary Education and Agriculture in the K-12 Classroom Challenge Grants Program (SPECA); The Women and Minorities in Science, Technology, Engineering, and Mathematics Fields Program (WAMS); The Higher Education Challenge Grants Program (HEC)

AGENCY: National Institute of Food and Agriculture, USDA.

ACTION: Notice of web-based listening session and request for stakeholder input.

SUMMARY: As part of the National Institute of Food and Agriculture's (NIFA) strategy to successfully meet the needs of its stakeholders, NIFA will host a virtual listening session. The focus of the listening session is to gather stakeholder input regarding capacity building grants for Non-Land-Grant Colleges of Agriculture (NLGCA); The Secondary Education, Two-Year Postsecondary Education and Agriculture in the K-12 Classroom Challenge Grants Program (SPECA); The Women and Minorities in Science, Technology, Engineering, and Mathematics Fields Program (WAMS); The Higher Education Challenge Grants Program (HEC). NIFA is particularly interested in achieving the most impact and identifying suggested priorities in these programs.

DATES: The listening session will be held on Tuesday, August 15, 2017 from 1:30 p.m. to 3:30 p.m., Eastern Daylight Time (EDT). All written comments must be received by 5 p.m. EDT on August 15, 2017.

ADDRESSES: The web-based listening session will be hosted using Adobe Connect and audio conference call. On August 15th, please access the following Web site, https://zoom.us/j/735656274. The audio conference call capabilities can be accessed at 1-888-844-9904, participant code 7923533#.

Registration: You may submit comments, identified by NIFA-2017-0003, by any of the following methods:

Federal eRulemaking Portal: http://www.regulations.gov. Follow the instructions for submitting comments. Include NIFA-2017-0003 in the subject line of the message.

Mail: Paper, disk or CD-ROM submissions should be submitted to Dr. Joyce Parker, Division of Community and Education; Institute of Youth, Family and Community (IYFC), National Institute of Food and Agriculture, U.S. Department of Agriculture, STOP 2201, 1400 Independence Avenue SW., Washington, DC 20250-2220.

Instructions: All submissions received must include the agency name and reference to NIFA-2017-0003. All comments received will be posted to http://www.regulations.gov, including any personal information provided.

FOR FURTHER INFORMATION CONTACT: Dr. Joyce Parker, Program Specialist, NIFA at (202) 401-4512 or by email at joyce.parker@nifa.usda.gov.

SUPPLEMENTARY INFORMATION: Persons wishing to present during the web-based listening session on Tuesday, August 15, 2017, are requested to pre-register by contacting Dr. Joyce Parker at joyce.parker@nifa.usda.gov. Participants may reserve one 5-minute comment period. More time may be available, depending on the number of people wishing to make a presentation. Reservations will be confirmed on a first-come, first-served basis. All other participants may provide comments during the listening session if time permits, or by the listed means.

Background and Purpose: Capacity Building Grants for Non-Land-Grant Colleges of Agriculture (NLGCA)

The purpose of this program is to assist the NLGCA Institutions in maintaining and expanding their capacity to conduct education, research, and outreach activities relating to agriculture, renewable resources, and other similar disciplines. NLGCA Institutions may use the funds to maintain and expand capacity: (A) To successfully compete for funds from Federal grants and other sources to carry out educational, research, and outreach activities that address priority concerns of national, regional, State, and local interest; (B) to disseminate information relating to priority concerns to—(i) interested members of the agriculture, renewable resources, and other relevant communities; (ii) the public; and (iii) any other interested entity; (C) to encourage members of the agriculture, renewable resources, and other relevant communities to participate in priority education, research, and outreach activities by providing matching funding to leverage grant funds; and, (D) through (i) the purchase or other acquisition of equipment and other infrastructure (not including alteration, repair, renovation, or construction of buildings); (ii) the professional growth and development of the faculty of the NLGCA Institution; and (iii) the development of graduate assistantships.

Secondary Education, Two-Year Postsecondary Education, and Agriculture in the K-12 Classroom Challenge Grants Program (SPECA)

The SPECA Challenge Grants Program is a NIFA-administered competitive grants program focused on improving formal, K-14 food, agricultural, natural resource, and human (FANH) sciences education. SPECA-funded projects ensure a competent and qualified workforce will exist to serve the FANH sciences system. At the same time, SPECA-funded projects improve the economic health and viability of communities through the development of degree programs emphasizing new and emerging employment opportunities. Finally, SPECA projects address the national challenge to increase the number and diversity of students entering the food, agricultural, natural resource, and human (FANH) sciences (i.e., having a FANH sciences workforce representative of the Nation's population).

Women and Minorities in Science, Technology, Engineering, and Mathematics Fields Program (WAMS)

The purpose of this program is to support research and extension projects that increase participation by women and underrepresented minorities from rural areas in STEM. NIFA intends this program to address educational needs, as determined by each institution, within broadly defined areas of food and agricultural sciences and related disciplines. Applications recommended for funding must highlight and emphasize a competent and qualified workforce to guide the food and agricultural sciences system. WAMS-funded projects should improve the economic health and viability of rural communities by developing research and extension initiatives that focus on new and emerging employment opportunities in STEM occupations. Hence, the goal of WAMS projects is to meet the national challenge to increase the number and diversity of students entering food and agriculture-related STEM disciplines (i.e. having a food and agricultural sciences workforce representative of the nation's population). Projects that contribute to the economic viability of rural communities are also encouraged.

Higher Education Challenge Grants Program (HEC)

The Higher Education Challenge Grants Program (HEC) is a NIFA-administered competitive grants program focused on improving formal, baccalaureate or master's degree level food, agricultural, natural resources, and human sciences (FANH) education and first professional degree-level education in veterinary medicine (DVM). HEC projects provide funding to eligible applicants to help ensure a competent, qualified and diverse workforce will exist to serve the FANH sciences system. At the same time, HEC-funded projects improve the economic health and viability of communities through the development of degree programs emphasizing new and emerging employment opportunities. Finally, HEC projects address the national challenge to increase the number and diversity of students entering the FANH sciences (i.e., having a FANH sciences workforce representative of the Nation's population).

Implementation Plans

All comments and the official transcript of the listening session, once available, may be reviewed on the NIFA Web page, https://nifa.usda.gov/stakeholder-feedback-education. NIFA plans to consider stakeholder input received from this listening session as well as other written comments in developing the Fiscal Year 2018-19 solicitations for these programs.

Done at Washington, DC this 26th day of July, 2017.
Sonny Ramaswamy,
Director, National Institute of Food and Agriculture.

[FR Doc. 2017-16262 Filed 8-1-17; 8:45 am]

BILLING CODE 3410-22-P